DEPARTMENT OF COMMERCE

National Institute of Standards and Technology

Government-Owned Inventions Available for Licensing

AGENCY: National Institute of Standards and Technology, Commerce.

ACTION: Notice of Government-owned inventions available for licensing.

SUMMARY: The invention listed below is jointly owned in by the U.S. Government, as represented by the Department of Commerce and Harvard University. The Department of Commerce's interest in the invention is available for exclusive or non-exclusive licensing in accordance with 35 U.S.C. 207 and 37 CFR part 404 to achieve expeditious commercialization of results of federally funded research and development.

FOR FURTHER INFORMATION CONTACT: Technical and licensing information on this invention may be obtained by writing to: National Institute of Standards and Technology, Office of Technology Partnerships, Building 820, Room 213, Gaithersburg, MD 20899; Fax 301-869-2751. Any request for information should include the NIST Docket number and title for the relevant invention as indicated below.

SUPPLEMENTARY INFORMATION: The invention available for licensing is:

NIST Docket Number: 95-040CIP

Title: Characterization of Individual Polymer Molecules Based on Monomer-Interface Interactions

Abstract: A method for sequencing a nucleic acid polymer by (1) providing two separate, adjacent pools of a medium and an interface between the two pools, the interface having a channel so dimensioned as to allow sequential monomer-by-monomer passage from one pool to other pool of only one nucleic acid polymer at a time; (2) placing the nucleic acid polymer to be sequenced in one of the two pools; and (3) taking measurements as each of the nucleotide monomers of the nucleic acid polymer passes through the channel so as to sequence the nucleic acid polymer.

Dated: January 22, 2002.
Karen H. Brown,
Deputy Director.

[FR Doc. 02-2074 Filed 1-28-02; 8:45 am]

BILLING CODE 3510-13-M